DEPARTMENT OF TRANSPORTATION

Federal Aviation Administration

14 CFR Part 27

[Docket No.: FAA-2006-25414; Amendment No. 27-44]

RIN 2120-AH87

Performance and Handling Qualities Requirements for Rotorcraft; Correcting Amendment

AGENCY: Federal Aviation Administration (FAA), DOT.

ACTION: Final rule; correcting amendment.

SUMMARY: The FAA is correcting a previously published final rule entitled Performance and Handling Qualities Requirements for Rotorcraft. In that final rule, we inadvertently left two cited references unchanged. The intent of this action is to correct the error in the regulation to ensure the requirement is clear and accurate.

DATES: Effective June 16, 2008.

FOR FURTHER INFORMATION CONTACT: For technical questions concerning this final rule contact Jeff Trang, Rotorcraft Standards Staff, ASW-111, Federal Aviation Administration, Fort Worth, Texas 76193-0111; telephone (817) 222-5135; facsimile (817) 222-5961, e-mail jeff.trang@faa.gov. For legal questions concerning this final rule contact Steve Harold, Directorate Counsel, ASW-7G, Federal Aviation Administration, Fort Worth, Texas 76193-0007, telephone (817) 222-5099; facsimile (817) 222-5945, e-mail steve.c.harold@faa.gov.

SUPPLEMENTARY INFORMATION:

Background

On February 29, 2008, the FAA published a final rule (73 FR 10987) that provided new and revised airworthiness standards for normal and transport category rotorcraft. The amendment re-designated § 27.79, as new § 27.87. However, in § 27.25(a)(1)(iv) and § 27.1587(a), we inadvertently made references to § 27.79 instead of § 27.87 as intended. This document makes the correction to reflect § 27.87 as the intended reference. This correction will not impose any additional requirements.

List of Subjects in 14 CFR Part 27

Air transportation, Aircraft, Aviation safety, Rotorcraft, Safety.

Accordingly, 14 CFR part 27 is corrected as follows:

PART 27—AIRWORTHINESS STANDARDS: NORMAL CATEGORY ROTORCRAFT

1. The authority citation for part 27 continues to read as follows:

Authority: 49 U.S.C. 106(g), 40113, 44701-44702, 44704.

2. Amend § 27.25 by revising paragraph (a)(1)(iv) to read as follows:

§ 27.25 Weight limits.

(a) * * *

(1) * * *

(iv) The highest weight in which the provisions of §§ 27.87 or 27.143(c)(1), or combinations thereof, are demonstrated if the weights and operating conditions (altitude and temperature) prescribed by those requirements cannot be met; and

* * * * *

3. Amend § 27.1587 by revising the introductory text of paragraph (a) to read as follows:

§ 27.1587 Performance information.

(a) The Rotorcraft Flight Manual must contain the following information, determined in accordance with §§ 27.49 through 27.87 and 27.143(c) and (d):

* * * * *

Issued in Washington, DC, on June 11, 2008.
Pamela Hamilton-Powell,
Director, Office of Rulemaking.

[FR Doc. E8-13524 Filed 6-13-08; 8:45 am]

BILLING CODE 4910-13-P